DEPARTMENT OF TRANSPORTATION

Federal Aviation Administration

14 CFR Part 39

[Docket No. FAA-2015-1426; Directorate Identifier 2013-NM-200-AD; Amendment 39-18462; AD 2016-07-17]

RIN 2120-AA64

Airworthiness Directives; Airbus Airplanes

AGENCY: Federal Aviation Administration (FAA), Department of Transportation (DOT).

ACTION: Final rule.

SUMMARY: We are superseding Airworthiness Directive (AD) 97-20-07 for certain Airbus Model A300 B4-600, B4-600R, and F4-600R series airplanes, and Model A300 C4-605R Variant F airplanes (collectively called Model A300-600 series airplanes). AD 97-20-07 required repetitive inspections to detect fatigue cracking in the left and right wings in the area where the top skin attaches to the center spar, and repair or modification of this area if necessary. This new AD reduces the inspection compliance time and repetitive inspection intervals. This AD was prompted by a determination that the inspection compliance time and repetitive inspection interval must be reduced to allow timely detection of fatigue cracking in the left and right wings in the area where the top skin attaches to the center spar. We are issuing this AD to detect and correct this fatigue cracking, which could reduce the residual strength of the top skin of the wings, and consequently affect the structural integrity of the airframe.

DATES: This AD becomes effective May 16, 2016.

The Director of the Federal Register approved the incorporation by reference of a certain publication listed in this AD as of May 16, 2016.

The Director of the Federal Register approved the incorporation by reference of a certain other publication listed in this AD as of October 30, 1997 (62 FR 50251, September 25, 1997).

ADDRESSES: For service information identified in this final rule, contact Airbus SAS, Airworthiness Office—EAW, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425-227-1221. It is also available on the Internet at http://www.regulations.gov by searching for and locating Docket No. FAA-2015-1426.

Examining the AD Docket

You may examine the AD docket on the Internet at http://www.regulations.gov by searching for and locating Docket No. FAA-2015-1426; or in person at the Docket Management Facility between 9 a.m. and 5 p.m., Monday through Friday, except Federal holidays. The AD docket contains this AD, the regulatory evaluation, any comments received, and other information. The street address for the Docket Operations office (telephone 800-647-5527) is in the ADDRESSES section.

FOR FURTHER INFORMATION CONTACT: Dan Rodina, Aerospace Engineer, International Branch, ANM-116, Transport Airplane Directorate, FAA, 1601 Lind Avenue SW., Renton, WA 98057-3356; telephone 425-227-2125; fax 425-227-1149.

SUPPLEMENTARY INFORMATION:

Discussion

We issued a notice of proposed rulemaking (NPRM) to amend 14 CFR part 39 to supersede AD 97-20-07, Amendment 39-10145 (62 FR 50251, September 25, 1997) (“AD 97-20-07”). AD 97-20-07 applied to certain Airbus Model A300 B4-600, B4-600R, and F4-600R series airplanes, and Model A300 C4-605R Variant F airplanes (collectively called Model A300-600 series airplanes). The NPRM published in the Federal Register on June 5, 2015 (80 FR 32058) (“the NPRM”). The NPRM was prompted by a determination that the inspection compliance time and repetitive inspection interval must be reduced to allow timely detection of fatigue cracking in the left and right wings in the area where the top skin attaches to the center spar. The NPRM proposed to continue to require repetitive inspections to detect fatigue cracking in the left and right wings in the area where the top skin attaches to the center spar, and repair or modification of this area if necessary. The NPRM also proposed to reduce the inspection compliance time and repetitive inspection intervals. We are issuing this AD to detect and correct this fatigue cracking, which could reduce the residual strength of the top skin of the wings, and consequently affect the structural integrity of the airframe.

The European Aviation Safety Agency (EASA), which is the Technical Agent for the Member States of the European Union, has issued EASA Airworthiness Directive 2013-0221, dated September 19, 2013 (referred to after this as the Mandatory Continuing Airworthiness Information, or “the MCAI”), to correct an unsafe condition for certain Airbus Model A300 B4-600, B4-600R, and F4-600R series airplanes, and Model A300 C4-605R Variant F airplanes (collectively called Model A300-600 series airplanes). The MCAI states:

During fatigue tests conducted in the early 1990's, cracks were found on the top skin of the wing at the centre spar joint between ribs 1 and 7.

Consequently, Airbus developed production mod. 10089 and issued Service Bulletin (SB) A300-57-6041, involving installation of a reinforcing plate on the affected area. Despite this improvement, subsequent cases of cracks were reported by operators.

This condition, if not detected and corrected, could adversely affect the structural integrity of the aeroplane.

To address this potential unsafe condition, Airbus issued SB A300-57-6044 and DGAC [Direction Générale de l'Aviation Civile] France issued * * * [an airworthiness directive] (later revised twice) to require repetitive inspections of the affected area and, depending on findings, accomplishment of applicable corrective action(s).

Since [the French] * * * [airworthiness directive] [which corresponds to FAA AD 97-20-07, Amendment 39-10145 (62 FR 50251, September 25, 1997)] was issued, a fleet survey and updated Fatigue and Damage Tolerance Analyses were performed in order to substantiate the second A300-600 Extended Service Goal (ESG2) exercise. The results of these analyses have shown that the inspection thresholds and intervals must be reduced to allow timely detection of these cracks and accomplishment of an applicable corrective action. Prompted by these findings, Airbus issued SB A300-57-6044 Revision 04 [dated August 19, 2011].

For the reasons described above, this [EASA] AD retains the requirements of [the French AD] * * * which is superseded, but requires the repetitive inspections to be accomplished at reduced thresholds and intervals and, depending on findings, corrective actions.

You may examine the MCAI in the AD docket on the Internet at http://www.regulations.gov by searching for and locating Docket No. FAA-2015-1426.

Comments

We gave the public the opportunity to participate in developing this AD. We received no comments on the NPRM or on the determination of the cost to the public.

Changes Made to This Final Rule

Paragraph (m)(2) of the proposed AD inadvertently included the corrective action for the low frequency eddy current (LFEC) inspections for cracking specified in paragraphs (k) and (l) of the proposed AD; however, the corrective action in paragraph (m)(2) of this AD applies only to the new high frequency eddy current (HFEC) inspections required by this AD. We have revised paragraph (m)(2) of this AD to specify the corrective action for the HFEC inspections for cracking specified in paragraphs (i), (j), and (m)(1) of this AD. We have added new paragraph (m)(4) of this AD to specify the corrective actions for the LFEC inspections specified in paragraphs (k) and (l) of this AD.

Conclusion

We reviewed the available data and determined that air safety and the public interest require adopting this AD with the changes described previously and minor editorial changes. We have determined that these changes:

• Are consistent with the intent that was proposed in the NPRM for correcting the unsafe condition; and

• Do not add any additional burden upon the public than was already proposed in the NPRM.

Related Service Information Under 1 CFR Part 51

Airbus has issued Service Bulletin A300-57-6044, Revision 04, dated August 19, 2011, including Appendix 01, Revision 04, dated August 19, 2011. The service information describes procedures for inspections to detect fatigue cracking in the left and right wings in the area where the top skin attaches to the center spar, and repair or modification of this area. This service information is reasonably available because the interested parties have access to it through their normal course of business or by the means identified in the ADDRESSES section.

Costs of Compliance

We estimate that this AD affects 47 airplanes of U.S. registry.

The actions required by AD 97-20-07, and retained in this AD take about 3 work-hours per product, at an average labor rate of $85 per work-hour. Based on these figures, the estimated cost of the actions that were required by AD 97-20-07 is $255 per product.

We also estimate that it will take about 5 work-hours per product to comply with the new basic requirements of this AD. The average labor rate is $85 per work-hour. Based on these figures, we estimate the cost of this AD on U.S. operators to be $19,975, or $425 per product

We have received no definitive data that would enable us to provide cost estimates for the on-condition actions specified in this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 97-20-07, Amendment 39-10145 (62 FR 50251, September 25, 1997), and adding the following new AD:

2016-07-17 Airbus: Amendment 39-18462. Docket No. FAA-2015-1426; Directorate Identifier 2013-NM-200-AD.

(a) Effective Date

This AD becomes effective May 16, 2016.

(b) Affected ADs

This AD replaces AD 97-20-07, Amendment 39-10145 (62 FR 50251, September 25, 1997) (“AD 97-20-07”).

(c) Applicability

This AD applies to the Airbus airplanes identified in paragraphs (c)(1) through (c)(4) of this AD, certificated in any category, all manufacturer serial numbers except those on which Airbus Modification 10160 has been done in production.

(1) Airbus Model A300 B4-601, B4-603, B4-620, and B4-622 airplanes.

(2) Airbus Model A300 B4-605R and B4-622R airplanes.

(3) Airbus Model A300 F4-605R and F4-622R airplanes.

(4) Airbus Model A300 C4-605R Variant F airplanes.

(d) Subject

Air Transport Association (ATA) of America Code 57, Wings.

(e) Reason

This AD was prompted by a determination that the inspection compliance time and repetitive inspection interval must be reduced to allow timely detection of fatigue cracking in the left and right wings in the area where the top skin attaches to the center spar. We are issuing this AD to detect and correct this fatigue cracking, which could reduce the residual strength of the top skin of the wings, and consequently affect the structural integrity of the airframe.

(f) Compliance

Comply with this AD within the compliance times specified, unless already done.

(g) Retained Repetitive Inspections and Corrective Actions, With Revised Service Information

This paragraph restates the requirements of paragraph (a) of AD 97-20-07, with revised service information. For airplanes on which Airbus Modification 10089 has not been installed: Prior to the accumulation of 18,000 total landings, or within 1,500 landings after October 30, 1997 (the effective date of AD 97-20-07), whichever occurs later, conduct either a detailed visual inspection or a high frequency eddy current (HFEC) inspection to detect fatigue cracking in the left and right wings in the area where the top skin attaches to the center spar between ribs 1 and 7, in accordance with Airbus Service Bulletin A300-57-6044, Revision 2, dated September 6, 1995, including Appendix 1, Revision 1, dated November 25, 1994; or Airbus Service Bulletin A300-57-6044, Revision 04, dated August 19, 2011, including Appendix 01, Revision 04, dated August 19, 2011. As of the effective date of this AD, use only Airbus Service Bulletin A300-57-6044, Revision 04, dated August 19, 2011, including Appendix 01, Revision 04, dated August 19, 2011. Accomplishment of the inspection required by paragraph (i) of this AD terminates the inspection requirements of this paragraph.

(1) If no cracking is detected, conduct repetitive inspections thereafter at the following intervals:

(i) If the immediately preceding inspection was conducted using detailed visual inspection techniques, conduct the next inspection within 5,000 landings.

(ii) If the immediately preceding inspection was conducted using HFEC techniques, conduct the next inspection within 9,500 landings.

(2) If any cracking is detected or suspected during any detailed visual inspection required by the introductory text of paragraph (g), paragraph (g)(1), or paragraph (g)(3)(i) of this AD, prior to further flight, confirm this finding and the length of this cracking by conducting an HFEC inspection, in accordance with Airbus Service Bulletin A300-57-6044, Revision 2, dated September 6, 1995, including Appendix 1, Revision 1, dated November 25, 1994; or Airbus Service Bulletin A300-57-6044, Revision 04, dated August 19, 2011, including Appendix 01, Revision 04, dated August 19, 2011. As of the effective date of this AD, use only Airbus Service Bulletin A300-57-6044, Revision 04, dated August 19, 2011, including Appendix 01, Revision 04, dated August 19, 2011. If no cracking is confirmed during the HFEC inspection, accomplish the repetitive inspection required by paragraph (g)(1)(ii) of this AD at the time specified in that paragraph.

(3) If any cracking is detected or confirmed during any HFEC inspection required by the introductory text of paragraph (g), paragraph (g)(1), or paragraph (g)(2) of this AD:

(i) If the cracking is 75 millimeters (mm) or less per rib bay, prior to further flight, repair in accordance with Airbus Service Bulletin A300-57-6044, Revision 2, dated September 6, 1995, including Appendix 1, Revision 1, dated November 25, 1994; or Airbus Service Bulletin A300-57-6044, Revision 04, dated August 19, 2011, including Appendix 01, Revision 04, dated August 19, 2011. As of the effective date of this AD, use only Airbus Service Bulletin A300-57-6044, Revision 04, dated August 19, 2011, including Appendix 01, Revision 04, dated August 19, 2011. Thereafter, conduct repetitive detailed visual inspections of the repaired area at intervals not to exceed 50 landings, in accordance with Airbus Service Bulletin A300-57-6044, Revision 2, dated September 6, 1995, including Appendix 1, Revision 1, dated November 25, 1994; or Airbus Service Bulletin A300-57-6044, Revision 04, dated August 19, 2011, including Appendix 01, Revision 04, dated August 19, 2011. As of the effective date of this AD, use only Airbus Service Bulletin A300-57-6044, Revision 04, dated August 19, 2011, including Appendix 01, Revision 04, dated August 19, 2011.

(ii) If the cracking exceeds 75 mm per rib bay, prior to further flight, install Airbus Modification 10089, in accordance with Airbus Service Bulletin A300-57-6044, Revision 2, dated September 6, 1995, including Appendix 1, Revision 1, dated November 25, 1994; or Airbus Service Bulletin A300-57-6044, Revision 04, dated August 19, 2011, including Appendix 01, Revision 04, dated August 19, 2011. As of the effective date of this AD, use only Airbus Service Bulletin A300-57-6044, Revision 04, dated August 19, 2011, including Appendix 01, Revision 04, dated August 19, 2011. Thereafter, conduct a low frequency eddy current (LFEC) inspection in accordance with the requirements of paragraph (h) of this AD.

Note 1 to paragraph (g) of this AD: Airbus Service Bulletin A300-57-6044, Revision 2, dated September 6, 1995, including Appendix 1, Revision 1, dated November 25, 1994, references Airbus Service Bulletin A300-57-6041, Revision 4, dated November 16, 1995, as an additional source of guidance for installing Airbus Modification 10089.

(h) Retained Repetitive Inspections and Corrective Actions for Certain Airplanes, With Revised Service Information and Repair Instructions

This paragraph restates the requirements of paragraph (b) of AD 97-20-07, with revised service information and repair instructions. For airplanes on which Airbus Modification 10089 has been installed: Prior to the accumulation of 22,000 total landings after this modification has been installed, or within 1,500 landings after October 30, 1997 (the effective date of AD 97-20-07), whichever occurs later, conduct a LFEC inspection to detect fatigue cracking in the inboard and rear edges of the top skin reinforcing plates, in accordance with Airbus Service Bulletin A300-57-6044, Revision 2, dated September 6, 1995, including Appendix 1, Revision 1, dated November 25, 1994; or Airbus Service Bulletin A300-57-6044, Revision 04, dated August 19, 2011, including Appendix 01, Revision 04, dated August 19, 2011. As of the effective date of this AD, use only Airbus Service Bulletin A300-57-6044, Revision 04, dated August 19, 2011, including Appendix 01, Revision 04, dated August 19, 2011. Accomplishment of the inspection required by paragraph (k) of this AD terminates the inspection requirements of this paragraph.

(1) If no cracking is detected, repeat this inspection thereafter at intervals not to exceed 11,000 landings.

(2) If any cracking is detected, prior to further flight, repair in accordance with a method approved by the Manager, Standardization Branch, ANM-113, Transport Airplane Directorate, FAA. As of the effective date of this AD, repair using a method approved by the Manager, International Branch, ANM-116, Transport Airplane Directorate, FAA; or the European Aviation Safety Agency (EASA); or Airbus's EASA Design Organization Approval (DOA). Thereafter, repeat this inspection at intervals not to exceed 11,000 landings.

(i) New Requirement of This AD: Initial Inspections

For airplanes on which Airbus Modification 10089 has not been installed: At the applicable time specified in paragraphs (i)(1) and (i)(2) of this AD, do either a detailed visual inspection or an HFEC inspection to detect fatigue cracking in the left and right wings in the area where the top skin attaches to the center spar between ribs 1 and 7, in accordance with the Accomplishment Instructions of Airbus Service Bulletin A300-57-6044, Revision 04, dated August 19, 2011, including Appendix 01, Revision 04, dated August 19, 2011. Accomplishment of the inspection required by this paragraph terminates the inspection requirements of paragraph (g) of this AD.

(1) For airplanes whose flight time average is equal to or more than 1.5 hours, at the later of the times specified in paragraphs (i)(1)(i) and (i)(1)(ii) of this AD.

(i) Before the accumulation of 14,000 total flight cycles or 30,300 total flight hours, whichever occurs first.

(ii) Within 1,500 flight cycles or 3,200 flight hours after the effective date of this AD, whichever occurs first.

(2) For airplanes whose flight time average is less than 1.5 hours, at the later of the times specified in paragraphs (i)(2)(i) and (i)(2)(ii) of this AD.

(i) Before the accumulation of 15,100 total flight cycles or 22,700 total flight hours, whichever occurs first.

(ii) Within 1,600 flight cycles or 2,500 flight hours after the effective date of this AD, whichever occurs first.

(j) New Requirement of This AD: Repetitive Inspections

Repeat the inspections specified in paragraph (i) of this AD thereafter at the applicable interval specified in paragraphs (j)(1) and (j)(2) of this AD.

(1) For airplanes whose flight time average is equal to or more than 1.5 hours, at the applicable interval specified in paragraphs (j)(1)(i) and (j)(1)(ii) of this AD.

(i) For a detailed visual inspection, at intervals not to exceed 3,900 flight cycles or 8,400 flight hours, whichever occurs first.

(ii) For an HFEC inspection, at intervals not to exceed 7,400 flight cycles or 16,000 flight hours, whichever occurs first.

(2) For airplanes whose flight time average is less than 1.5 hours, at the applicable interval specified in paragraphs (j)(2)(i) and (j)(2)(ii) of this AD.

(i) For a detailed visual inspection, at intervals not to exceed 4,200 flight cycles or 6,300 flight hours, whichever occurs first.

(ii) For an HFEC inspection, at intervals not to exceed 8,000 flight cycles or 11,900 flight hours, whichever occurs first.

(k) New Requirement of This AD: Initial Inspection for Certain Airplanes

For airplanes on which Airbus Modification 10089 has been installed: At the applicable time specified in paragraphs (k)(1) and (k)(2) of this AD, do an LFEC inspection to detect fatigue cracking in the inboard and rear edges of the top skin reinforcing plates, in accordance with the Accomplishment Instructions of Airbus Service Bulletin A300-57-6044, Revision 04, dated August 19, 2011, including Appendix 01, Revision 04, dated August 19, 2011. Accomplishment of the inspection required by this paragraph terminates the inspection requirements of paragraph (h) of this AD.

(1) For airplanes whose flight time average is equal to or more than 1.5 hours, at the later of the times specified in paragraphs (k)(1)(i) and (k)(1)(ii) of this AD.

(i) Before the accumulation of 17,000 total flight cycles or 37,100 total flight hours, whichever occurs first.

(ii) Within 1,500 flight cycles or 3,200 flight hours after the effective date of this AD, whichever occurs first.

(2) For airplanes whose flight time average is less than 1.5 hours, at the later of the times specified in paragraphs (k)(2)(i) and (k)(2)(ii) of this AD.

(i) Before the accumulation of 18,500 total flight cycles or 27,800 total flight hours, whichever occurs first.

(ii) Within 1,600 flight cycles or 2,500 flight hours after the effective date of this AD, whichever occurs first.

(l) New Requirement of This AD: Repetitive Inspections for Certain Airplanes

Repeat the inspection specified in paragraph (k) of this AD thereafter at the applicable interval specified in paragraphs (l)(1) and (l)(2) of this AD.

(1) For airplanes whose flight time average is equal to or more than 1.5 hours, at intervals not to exceed 8,500 flight cycles or 18,500 flight hours, whichever occurs first.

(2) For airplanes whose flight time average is less than 1.5 hours, at intervals not to exceed 9,200 flight cycles or 13,700 flight hours, whichever occurs first.

(m) New Requirement of This AD: Corrective Actions

(1) If any cracking is detected or suspected during any detailed inspection required by paragraph (i) or (j) of this AD: Before further flight, confirm this finding and the length of this cracking by conducting an HFEC inspection, in accordance with the Accomplishment Instructions of Airbus Service Bulletin A300-57-6044, Revision 04, dated August 19, 2011, including Appendix 01, Revision 04, dated August 19, 2011, except as specified in paragraph (o) of this AD. If no cracking is confirmed during the HFEC inspection, accomplish the applicable repetitive inspections required by paragraphs (j) and (l) of this AD at the applicable time specified in those paragraphs.

(2) If any cracking is found during any HFEC inspection required by paragraph (i), (j), or (m)(1) of this AD: Before further flight, do the applicable actions specified in paragraphs (m)(2)(i) and (m)(2)(ii) of this AD.

(i) If the cracking is 75 mm or less per each rib bay: Before further flight, repair the cracking, in accordance with the Accomplishment Instructions of Airbus Service Bulletin A300-57-6044, Revision 04, dated August 19, 2011, including Appendix 01, Revision 04, dated August 19, 2011, except as specified in paragraph (o) of this AD. Do repetitive detailed inspections of the repaired area thereafter at intervals not to exceed 50 flight cycles or 110 flight hours, whichever occurs first, in accordance with the Accomplishment Instructions of Airbus Service Bulletin A300-57-6044, Revision 04, dated August 19, 2011, including Appendix 01, Revision 04, dated August 19, 2011. Within 250 flight cycles or 550 flight hours, whichever occurs first after doing the temporary repair, do a permanent repair of the repaired area, in accordance with the Accomplishment Instructions of Airbus Service Bulletin A300-57-6044, Revision 04, dated August 19, 2011, including Appendix 01, Revision 04, dated August 19, 2011.

(ii) If the cracking exceeds 75 mm per any rib bay: Before further flight, install Airbus Modification 10089, in accordance with the Accomplishment Instructions of Airbus Service Bulletin A300-57-6044, Revision 04, dated August 19, 2011, including Appendix 01, Revision 04, dated August 19, 2011. Do an LFEC inspection thereafter at the intervals specified in paragraph (l) of this AD.

(3) If any cracking is found during any inspection required by this AD at fastener hole 1A, 1, or 2: Before further flight, repair the cracking, in accordance with the Accomplishment Instructions of Airbus Service Bulletin A300-57-6044, Revision 04, dated August 19, 2011, including Appendix 01, Revision 04, dated August 19, 2011.

(4) If any cracking is found during any LFEC inspection required by paragraph (k) or (l) of this AD: Before further flight, repair using a method approved by the Manager, International Branch, ANM-116, Transport Airplane Directorate, FAA; or EASA; or Airbus's EASA DOA.

(n) Credit for Previous Actions

This paragraph provides credit for actions required by paragraphs (i) through (l) of this AD, if those actions were performed before the effective date of this AD using Airbus Service Bulletin A300-57-6044, Revision 03, dated April 7, 1999, including Appendix 01, Revision 03, dated April 7, 1999, which is not incorporated by reference in this AD.

(o) Exception to Service Information Specification

Although Airbus Service Bulletin A300-57-6044, Revision 04, dated August 19, 2011, including Appendix 01, Revision 04, dated August 19, 2011, specifies to submit information to Airbus, this AD does not require that submission.

(p) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Dan Rodina, Aerospace Engineer, International Branch, ANM-116, Transport Airplane Directorate, FAA, 1601 Lind Avenue SW., Renton, WA 98057-3356; telephone 425-227-2125; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: As of the effective date of this AD, for any requirement in this AD to obtain corrective actions from a manufacturer, the action must be accomplished using a method approved by the Manager, International Branch, ANM-116, Transport Airplane Directorate, FAA; or EASA; or Airbus's EASA DOA. If approved by the DOA, the approval must include the DOA-authorized signature.

(q) Related Information

(1) Refer to Mandatory Continuing Airworthiness Information (MCAI) EASA Airworthiness Directive 2013-0221, dated September 19, 2013, for related information. This MCAI may be found in the AD docket on the Internet at http://www.regulations.gov by searching for and locating Docket No. FAA-2015-1426.

(2) Service information identified in this AD that is not incorporated by reference is available at the addresses specified in paragraphs (r)(5) and (r)(6) of this AD.

(r) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on May 16, 2016

(i) Airbus Service Bulletin A300-57-6044, Revision 04, dated August 19, 2011, including Appendix 01, Revision 04, dated August 19, 2011.

(ii) Reserved.

(4) The following service information was approved for IBR on October 30, 1997 (62 FR 50251, September 25, 1997).

(i) Airbus Service Bulletin A300-57-6044, Revision 2, dated September 6, 1995, including Appendix 1, Revision 1, dated November 25, 1994. Pages 1 through 8 of this document are identified as Revision 2, dated September 6, 1995; pages 9 and 10 are identified as original, dated March 1, 1993. Page 1 of Appendix 1 is identified as Revision 1, dated November 25, 1994; and pages 2 through 6 are identified as original, dated March 1, 1993.

(ii) Reserved.

(5) For service information identified in this AD, contact Airbus SAS, Airworthiness Office—EAW, 1 Rond Point Maurice Bellonte, 31707 Blagnac Cedex, France; telephone +33 5 61 93 36 96; fax +33 5 61 93 44 51; email account.airworth-eas@airbus.com; Internet http://www.airbus.com.

(6) You may view this service information at the FAA, Transport Airplane Directorate, 1601 Lind Avenue SW., Renton, WA. For information on the availability of this material at the FAA, call 425-227-1221.

(7) You may view this service information that is incorporated by reference at the National Archives and Records Administration (NARA). For information on the availability of this material at NARA, call 202-741-6030, or go to: http://www.archives.gov/federal-register/cfr/ibr-locations.html.

Issued in Renton, Washington, on March 24, 2016.
Michael Kaszycki,
Acting Manager, Transport Airplane Directorate, Aircraft Certification Service.

[FR Doc. 2016-07574 Filed 4-8-16; 8:45 am]

BILLING CODE 4910-13-P